DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, form, and OMB number: Non-Prior Service and Prior Service Accessions; AETC Forms 1319, 1325, and 1419; OMB Number 0701-0079.

Type of request: Extension.

Number of respondents: 110,231.

Responses per respondent: 1.

Annual responses: 110,231.

Average burden per response: 37 minutes (average).

Annual burden hours: 69,105.

Needs and uses: The information collection requirement is necessary for recruiters to determine applicant qualifications when conducting an interview. Information from the interview will determine if additional documents on law violations, citizenship verification, and education are needed. Applicants who have reached a certain age, marital status, or classification are required to submit financial information. Respondents are civilian non-prior and prior service personnel applying for enlistment into the Air force as enlisted members. The completed forms are used by the recruiter to establish the eligibility status of applicants.

Affected public: Individuals or Households.

Frequency: On Occasion.

Respondent's obligation: Required to Obtain or Retain Benefits.

OMB desk officer: Mr. Edward C. Springer.

Written comments and recommendations on the proposed information collection should be sent to Mr. Springer at the Office of Management and Budget, Desk Officer for DoD, Room 10236, New Executive Office Building, Washington, DC 20503.

DOD clearance officer: Mr. Robert Cushing.

Written requests for copies of the information collection proposal should be sent to Mr. Cushing, WHS/DIOR, 1215 Jefferson Davis Highway, Suite 1204, Arlington, VA 22202-4302.

Dated: October 31, 2000.
Patricia L. Toppings,
Alternate OSD Federal Register Liaison Officer, Department of Defense.

[FR Doc. 00-28318 Filed 11-3-00; 8:45 am]

BILLING CODE 5001-10-M